DEPARTMENT OF JUSTICE

Notice of Lodging of Consent Decree Pursuant to the Comprehensive Environmental Response Compensation and Liability Act, 42 U.S.C. 9601 et seq.

In accordance with Departmental policy, 28 CFR 50.7, notice is hereby given that a third proposed consent decree in United State v. Viacom, Inc. and Schindler Elevator Corporation, Civil Action No. 1:01-CV-123, was lodged on November 1, 2001, with the United States District Court for the Middle District of Pennsylvania.

The proposed Consent Decree concerns the Westinghouse Elevator Plant Superfund Site (“Site”), which is located on approximately 90 acres, and has its southern boundary adjacent to part of the Gettysburg Battlefield National Park. The Site is located about 1.5 miles north of downtown Gettysburg in Cumberland Township, Adams County, Pennsylvania. Pursuant to the proposed consent decree and section 107(a) of the Comprehensive Environmental Response, Compensation and Liability Act (“CERCLA”), 42 U.S.C. 9607(a), the defendants will pay the United States for unreimbursed past costs at the Site, in the amount of $569,000 plus certain interest in connection with the Site.

The Department of Justice will receive, for a period of thirty (30) days from the date this publication, comments relating to the proposed consent decree. Comments should be addressed to the Assistant Attorney General for the Environment and Natural Resources Division, Department of Justice, Washington, DC 20530, and should refer to United States v.Viacom, Inc. and Schindler Elevator Corporation, DOJ Ref. #90-11-3-1004/1.

The proposed consent decree may be examined at the office of the United States Attorney, 228 Walnut Street, Suite 220 Harrisburg, Pennsylvania 17108 and the Region 3 Office of the U.S. Environmental Protection Agency, 1650 Arch Street, Philadelphia, PA 19103-2029. A copy of the proposed consent decree may also be obtained by mail from the Consent Decree Library, U.S. Department of Justice, P.O. Box 7611, Washington, DC 20044-7611. (202) 624-0892. In requesting a copy please refer to the referenced case and enclose a check (25 cents per page reproduction costs) in the amount of $5.25 for the consent decree (21 pages), payable to the Consent Decree Library.

Robert Brook,
Assistant Chief,
Environmental Enforcement Section, Environment and Natural Resources Division.

[FR Doc. 02-92 Filed 1-02-02; 8:45 am]

BILLING CODE 4410-15-M